DEPARTMENT OF TRANSPORTATION

Office of the Secretary

Application of Tourjets Airline Corporation for Certificate Authority

AGENCY: Department of Transportation.

ACTION: Notice of order to show cause (Order 2001-8-20), Dockets OST-2000-7546 and OST-2000-7547.

SUMMARY: The Department of Transportation is directing all interested persons to show cause why it should not issue orders finding Tourjets Airline Corporation fit, willing, and able, and awarding it certificates of public convenience and necessity to engage in interstate and foreign charter air transportation of persons, property and mail.

DATES: Persons wishing to file objections should do so no later than September 5, 2001.

ADDRESSES: Objections and answers to objections should be filed in Dockets OST-2000-7546 and OST-2000-7547 and addressed to the Department of Transportation Dockets (SVC-124, Room PL-401), U.S. Department of Transportation, 400 Seventh Street, SW., Washington, DC 20590, and should be served upon the parties listed in Attachment A to the order.

FOR FURTHER INFORMATION CONTACT: Ms. Delores King, Air Carrier Fitness Division (X-56, Room 6401), U.S. Department of Transportation, 400 Seventh Street, SW., Washington, DC 20590, (202) 366-2343.

Dated: August 22, 2001.
Robert S. Goldner,
Special Assistant for Aviation and International Affairs.

[FR Doc. 01-21721 Filed 8-27-01; 8:45 am]

BILLING CODE 4910-62-P